SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before March 23, 2009.

ADDRESSES: Send all comments regarding whether this information collection is necessary for the proper performance of the function of the agency, whether the burden estimates are accurate, and if there are ways to minimize the estimated burden and enhance the quality of the collection, to David Becker, Acting Chief Financial Officer, Office of the Chief Financial Officer, Small Business Administration, 409 3rd Street, 6th Floor, Washington, DC 20416.

FOR FURTHER INFORMATION CONTACT: David Becker, Acting Chief Financial Officer, Office of the Chief Financial Officer, 202-205-6122, david.becker@sba.gov; Curtis B. Rich, Management Analyst, 202-205-7030 curtis.rich@sba.gov.

SUPPLEMENTARY INFORMATION: SBA will use data from (1) recipients of SBA-backed loans or SBIC financing to access customers satisfaction & perception of program impact and (2) 7(a) lenders to examine factors used to determine if credit elsewhere requirements are met.

Title: “An Assessment of Small Business Administration Loan and Investment Performance.”

Description of Respondents: This survey will be administered to a random sample of businesses assisted under various SBA programs.

Form Numbers: 2284, 2285.

Annual Responses: 1.

Annual Burden: 346.

Jacqueline White,
Chief, Administrative Information Branch.

[FR Doc. E9-1116 Filed 1-16-09; 8:45 am]

BILLING CODE 8025-01-P